COMMITTEE FOR THE IMPLEMENTATION OF TEXTILE AGREEMENTS

Exemption of Certain Textile and Apparel Products From Visa and Quota Requirements

October 22, 2001.

AGENCY: Committee for the Implementation of Textile Agreements (CITA).

ACTION: Issuing a directive to the Commissioner of Customs exempting certain textile and apparel products imported in connection with international athletic events from certain quota and visa requirements.

EFFECTIVE DATE: October 25, 2001.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

Heading 9817.60.0000 permits the duty-free entry of the certain articles associated with international athletic events held in the United States, such as the Olympics and Paralympics, the Goodwill Games, the Special Olympics World Games, the World Cup Soccer Games, or any similar event as the Secretary of the Treasury may determine. Effective on October 25, 2001, textiles and apparel products not intended for sale or distribution to the public entered into the United States under Harmonized Tariff Schedule of the United States heading 9817.60.0000 shall not be subject to visa and quota requirements.

D. Michael Hutchinson,
Acting Chairman, Committee for the Implementation of Textile Agreements.

Committee for the Implementation of Textile Agreements

October 22, 2001.

Commissioner of Customs,

Department of the Treasury, Washington, DC 20229

Dear Commissioner: Heading 9817.60.0000 permits the duty-free entry of the certain articles associated with international athletic events held in the United States, such as the Olympics and Paralympics, the Goodwill Games, the Special Olympics World Games, the World Cup Soccer Games, or any similar event as the Secretary of the Treasury may determine. Effective on October 25, 2001, textiles and apparel products not intended for sale or distribution to the public entered into the United States under Harmonized Tariff Schedule of the United States heading 9817.60.0000 shall not be subject to visa and quota requirements.

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 01-26912 Filed 10-25-01; 8:45 am]

BILLING CODE 3510-DR-S